DEPARTMENT OF TRANSPORTATION

Federal Aviation Administration

14 CFR Part 39

[Docket No. FAA-2015-2463; Directorate Identifier 2015-NM-086-AD; Amendment 39-18216; AD 2015-15-07]

RIN 2120-AA64

Airworthiness Directives; Bombardier, Inc. Airplanes

AGENCY: Federal Aviation Administration (FAA), Department of Transportation (DOT).

ACTION: Final rule; request for comments.

SUMMARY: We are superseding Airworthiness Directive (AD) 2015-10-01 for certain Bombardier, Inc. Model DHC-8-400 series airplanes. AD 2015-10-01 required inspection for correct assembly of the main landing gear (MLG) alternate extension system reservoir lid, and corrective action if necessary. This new AD revises the applicability. This AD was prompted by the discovery of two errors in the applicability of AD 2015-10-01. We are issuing this AD to, in the event of a failure of the primary MLG extension system, prevent failure of the alternate MLG extension system to fully extend the MLG into a down-and-locked position, which could result in collapse of both left-hand and right-hand MLG sides during touchdown.

DATES: This AD becomes effective August 12, 2015.

The Director of the Federal Register approved the incorporation by reference of certain publications listed in this AD as of July 14, 2015 (80 FR 32449, June 9, 2015).

We must receive comments on this AD by September 11, 2015.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Bombardier service information identified in this AD, contact Bombardier, Inc., Q-Series Technical Help Desk, 123 Garratt Boulevard, Toronto, Ontario M3K 1Y5, Canada; telephone 416-375-4000; fax 416-375-4539; email thd.qseries@aero.bombardier.com; Internet http://www.bombardier.com. For Parker service information identified in this AD, contact Parker Aerospace, 14300 Alton Parkway, Irvine, CA 92618; telephone: 949-833-3000; Internet: http://www.parker.com. You may view this referenced service information at the FAA, Transport Airplane Directorate, 1601 Lind Avenue SW., Renton, WA. For information on the availability of this material at the FAA, call 425-227-1221. It is also available on the Internet at http://www.regulations.gov by searching for and locating Docket No. FAA-2015-2463.

Examining the AD Docket

You may examine the AD docket on the Internet at http://www.regulations.gov by searching for and locating Docket No. FAA-2015-2463; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Fabio Buttitta, Aerospace Engineer, Airframe and Mechanical Systems Branch, ANE-171, FAA, New York Aircraft Certification Office (ACO), 1600 Stewart Avenue, Suite 410, Westbury, NY 11590; telephone 516-228-7303; fax 516-794-5531.

SUPPLEMENTARY INFORMATION:

Discussion

On May 1, 2015, we issued AD 2015-10-01, Amendment 39-18156 (80 FR 32449, June 9, 2015). AD 2015-10-01 applied to certain Bombardier, Inc. Model DHC-8-400 series airplanes. AD 2015-10-01 was prompted by reports of hydraulic fluid loss from the reservoir of the MLG alternate extension system. AD 2015-10-01 required inspection for correct assembly of the MLG alternate extension system reservoir lid, and corrective action if necessary. We issued AD 2015-10-01 to, in the event of a failure of the primary MLG extension system, prevent failure of the alternate MLG extension system to fully extend the MLG into a down-and-locked position, which could result in collapse of both left-hand and right-hand MLG sides during touchdown.

AD 2015-10-01, Amendment 39-18156 (80 FR 32449, June 9, 2015), corresponds to Mandatory Continuing Airworthiness Information (MCAI) Canadian Airworthiness Directive CF-2014-15, dated June 6, 2014. You may examine the MCAI on the Internet at http://www.regulations.gov by searching for and locating Docket No. FAA-2015-2463.

Since we issued AD 2015-10-01, Amendment 39-18156 (80 FR 32449, June 9, 2015), we have discovered two inadvertent errors in the identification of the affected airplane models in the applicability of AD 2015-10-01. Paragraph (c) of AD 2015-10-01 omitted Bombardier Model DHC-8-400 airplanes and erroneously referred to a model (DHC-8-403) that is not identified on the U.S. type certificate. However, the serial numbers identified in paragraph (c) of AD 2015-10-01 were correct. We have also revised the estimated number of U.S.-registered airplanes affected by this AD. The number of airplanes is less than we originally estimated.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

We are superseding AD 2015-10-01, Amendment 39-18156 (80 FR 32449, June 9, 2015), to correct two errors in the applicability in paragraph (c) of AD 2015-10-01, which inadvertently omitted a certain airplane model affected by the unsafe condition, and included a model that is not identified on the U.S. type certificate. We have made no other changes to the requirements published in AD 2015-10-01. Also, there are currently no Bombardier Inc. Model DHC-8-400 airplanes (the omitted airplane model) on the U.S. Register. Therefore, we determined that notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2015-2463; Directorate Identifier 2015-NM-086-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Related Service Information Under 1 CFR Part 51

Bombardier has issued Service Bulletin 84-29-34, dated May 9, 2013, with the attached Parker Service Bulletin 82910012-29-431, dated October 22, 2012. The service information describes procedures to inspect the lid assembly of the MLG alternate extension system reservoir for correct assembly and corrective actions. This service information is reasonably available because the interested parties have access to it through their normal course of business or by the means identified in the ADDRESSES section of this AD.

Costs of Compliance

We estimate that this AD affects 78 airplanes of U.S. registry.

The actions required by AD 2015-10-01, Amendment 39-18156 (80 FR 32449, June 9, 2015), and retained in this AD take about 4 work-hours per product, at an average labor rate of $85 per work-hour. Based on these figures, the estimated cost of the actions that were required by AD 2015-10-01 is $340 per product.

In addition, we estimate that any necessary follow-on actions will take about 2 work-hours and require parts costing $0, for a cost of $170 per product. We have no way of determining the number of aircraft that might need this action.

The new requirements of this AD add no additional economic burden.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2015-10-01, Amendment 39-18156 (80 FR 32449, June 9, 2015), and adding the following new AD:

2015-15-07 Bombardier, Inc.: Amendment 39-18216. Docket No. FAA-2015-2463; Directorate Identifier 2015-NM-086-AD.

(a) Effective Date

This AD becomes effective August 12, 2015.

(b) Affected ADs

This AD replaces AD 2015-10-01, Amendment 39-18156 (80 FR 32449, June 9, 2015).

(c) Applicability

This AD applies to Bombardier, Inc. Model DHC-8-400, -401, and -402 airplanes, certificated in any category, serial numbers 4001 through 4424 inclusive.

(d) Subject

Air Transport Association (ATA) of America Code 29, Hydraulic Power.

(e) Reason

This AD was prompted by reports of hydraulic fluid loss from the reservoir of the main landing gear (MLG) alternate extension system. We are issuing this AD to, in the event of a failure of the primary MLG extension system, prevent failure of the alternate MLG extension system to fully extend the MLG into a down-and-locked position, which could result in collapse of both left-hand and right-hand MLG sides during touchdown.

(f) Compliance

Comply with this AD within the compliance times specified, unless already done.

(g) Retained Inspection and Corrective Action, With No Changes

This paragraph restates the requirements of AD 2015-10-01, Amendment 39-18156 (80 FR 32449, June 9, 2015), with no changes. Within 2,000 flight hours or 12 months after July 14, 2015 (the effective date of AD 2015-10-01), whichever occurs first: Do a general visual inspection of the MLG alternate extension system reservoir lid for correct assembly, and do all applicable corrective actions, in accordance with the Accomplishment Instructions of Bombardier Service Bulletin 84-29-34, dated May 9, 2013, and with the attached Parker Service Bulletin 82910012-29-431, dated October 22, 2012, as referenced in Bombardier Service Bulletin 84-29-34, dated May 9, 2013. Do all applicable corrective actions within 2,000 flight hours or 12 months after July 14, 2015, whichever occurs first.

(h) Retained Credit for Previous Actions, With No Changes

This paragraph restates the provisions of paragraph (h) of AD 2015-10-01, Amendment 39-18156 (80 FR 32449, June 9, 2015), with no changes. This paragraph provides credit for actions required by paragraph (g) of this AD, if those actions were performed before July 14, 2015 (the effective date of AD 2015-10-01), using Bombardier All Operator Message 543, dated October 17, 2012, which is not incorporated by reference in this AD.

(i) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531.

(i) Before using any approved AMOC, notify your appropriate principal inspector, or lacking a principal inspector, the manager of the local flight standards district office/certificate holding district office. The AMOC approval letter must specifically reference this AD.

(ii) AMOCs approved previously for AD 2015-10-01, Amendment 39-18156 (80 FR 32449, June 9, 2015), are approved as AMOCs for the corresponding provisions of this AD.

(2) Contacting the Manufacturer: As of the effective date of this AD, for any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(j) Related Information

(1) Refer to Mandatory Continuing Airworthiness Information (MCAI) Canadian Airworthiness Directive CF-2014-15, dated June 6, 2014, for related information. This MCAI may be found in the AD docket on the Internet at http://www.regulations.gov by searching for and locating Docket No. FAA-2015-2463.

(2) Service information identified in this AD that is not incorporated by reference is available at the addresses specified in paragraphs (k)(4) and (k)(6) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on July 14, 2015 (80 FR 32449, June 9, 2015).

(i) Bombardier Service Bulletin 84-29-34, dated May 9, 2013.

(ii) Parker Service Bulletin 82910012-29-431, dated October 22, 2012.

(4) For Bombardier service information identified in this AD, contact Bombardier, Inc., Q-Series Technical Help Desk, 123 Garratt Boulevard, Toronto, Ontario M3K 1Y5, Canada; telephone 416-375-4000; fax 416-375-4539; email thd.qseries@aero.bombardier.com; Internet http://www.bombardier.com.

(5) For Parker service information identified in this AD, contact Parker Aerospace, 14300 Alton Parkway, Irvine, CA 92618; phone: 949-833-3000; Internet: http://www.parker.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on July 13, 2015.
Jeffrey E. Duven,
Manager, Transport Airplane Directorate, Aircraft Certification Service.

[FR Doc. 2015-17975 Filed 7-27-15; 8:45 am]

BILLING CODE 4910-13-P